GOVERNMENT ACCOUNTABILITY OFFICE

Request for Medicare Payment Advisory Commission (MedPAC) Nominations

AGENCY: Government Accountability Office.

ACTION: Request for letters of nomination and resumes.

SUMMARY: The Balanced Budget Act of 1997 established the Medicare Payment Advisory Commission (MedPAC) and gave the Comptroller General of the United States responsibility for appointing its members. The Government Accountability Office (GAO) is now accepting nominations for MedPAC appointments that will be effective in May 2026. Nominations should be sent to the email address listed below. Acknowledgement of receipt will be provided within a week of submission.

DATES: Letters of nomination and resumes should be submitted no later than February 6, 2026, to ensure adequate opportunity for review and consideration of nominees prior to appointment.

ADDRESSES: Submit letters of nomination and resumes to MedPACappointments@gao.gov.

FOR FURTHER INFORMATION CONTACT: Greg Giusto at giustog@gao.gov or (202) 512-7114 if you do not receive an acknowledgement or need additional information. For general information, contact GAO's Office of Public Affairs, at PublicAffairs@gao.gov.

Authority: 42 U.S.C. 1395b-6.

Orice Williams Brown,
Acting Comptroller General of the United States.

[FR Doc. 2026-00282 Filed 1-8-26; 8:45 am]

BILLING CODE 1610-02-P